SURFACE TRANSPORTATION BOARD

[Docket No. FD 36046]

CSX Transportation, Inc.—Trackage Rights Exemption—Grand Trunk Western Railroad Company

Grand Trunk Western Railroad Company (GTW), pursuant to a written trackage rights agreement (Agreement),¹ has agreed to grant CSX Transportation, Inc. (CSXT), overhead trackage rights: (1) Between GTW's connection to CSXT at Wellsboro, Ind., at or near milepost 71.1, and Griffith, Ind., at or near milepost 36.1, on GTW's South Bend Subdivision, and (2) between Griffith, Ind., at or near milepost 36.1, and Munster, Ind., at or near milepost 30.92, on GTW's Elsdon Subdivision, a distance of approximately 40.18 miles, including all sidings, yard tracks and yard leads now existing or hereafter constructed along those tracks (the Line).²

¹ An executed redacted copy of the Agreement between GTW and CSXT was filed with the notice of exemption. An unredacted copy was filed under seal along with a motion for protective order pursuant to 49 CFR 1104.14(b). That motion will be addressed in a separate decision.

² In a letter filed on September 27, 2016, CSXT corrects the description of the territory in which it proposes to operate.

CSXT proposes to use the Line to move a limited volume of traffic between CSXT's lines that connect with the Line at Munster, Ind., on the west and Wellsboro, Ind., on the east, which CSXT states will result in operating economies and improved service. CSXT will be permitted to operate up to four trains a day, unless otherwise agreed between GTW and CSXT.

CSXT states that the Agreement does not contain interchange commitments.

The transaction is scheduled to be consummated on or shortly after October 20, 2016, the effective date of the exemption (30 days after the verified notice of exemption was filed).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by October 13, 2016 (at least seven days before the exemption becomes effective).

An original and 10 copies of all pleadings, referring to Docket No. FD 36046, must be filed with the Surface Transportation Board, 395 E Street SW., Washington, DC 20423-0001. In addition, a copy of each pleading must be served on Louis E. Gitomer, Law Offices of Louis E. Gitomer, LLC, 600 Baltimore Avenue, Suite 301, Towson, MD 21204.

According to CSXT, this action is categorically excluded from environmental review under 49 CFR 1105.6(c).

Board decisions and notices are available on our Web site at “WWW.STB.GOV.”

Decided: October 3, 2016.
By the Board, Rachel D. Campbell, Director, Office of Proceedings.
Kenyatta Clay,
Clearance Clerk.

[FR Doc. 2016-24187 Filed 10-5-16; 8:45 am]

BILLING CODE 4915-01-P